DEPARTMENT OF AGRICULTURE

Submission for OMB Review; Comment Request

March 1, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 5, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Antimicrobial Use Studies.

OMB Control Number: 0579-NEW.

Summary of Collection: Collection and dissemination of animal health data and information is mandated by 7 U.S.C. 391, the Animal Industry Act of 1884, which established the precursor of the APHIS, Veterinary Services, the Bureau of Animal Industry. Legal requirements for examining and reporting on animal disease control methods were further mandated by 7 U.S.C. 8308 of the Animal Health Protection Act, “Detection, Control, and Eradication of Diseases and Pests,” May 13, 2002. APHIS will initiate the Antimicrobial Use Study which will consist of two surveys; a swine and feedlot survey. The information collected through the Antimicrobial Use Study will be analyzed and organized into one or more descriptive reports.

Need and Use of the Information: APHIS will use the data collected from the Antimicrobial Use Study to: (1) Describe antimicrobial usage to control and treat disease and promote growth on a regional and national basis both before and after implementation of the Food and Drug Administration's Veterinary Feed Directive; (2) Provide this information to industry as well as legislators to help form policy based on objective estimates; and (3) Use findings from the study as a basis for more in-depth evaluation of usage and resistance in a subsequent longitudinal study on farms. Without this information on antimicrobial use, the United States would have no ability to understand and develop information on trends in antimicrobial use nor would it be able to provide objective information to evaluate the results of the Food and Drug Administration's Veterinary Feed Directive.

Description of Respondents: Business or other for-profit.

Number of Respondents: 15,375.

Frequency of Responses: Reporting: Other: One time.

Total Burden Hours: 7,830.

Ruth Brown,
Departmental Information Collection Clearance Officer.

[FR Doc. 2017-04220 Filed 3-3-17; 8:45 am]

BILLING CODE 3410-34-P